DEPARTMENT OF COMMERCE

Economic Development Administration

[Docket No.: 061005258-6258-01]

Membership of the Economic Development Administration Performance Review Board

AGENCY: Economic Development Administration, Department of Commerce.

ACTION: Notice of Membership on the Economic Development Administration Performance Review Board.

SUMMARY: In accordance with 5 U.S.C. 4314(c)(4), the Economic Development Administration (EDA), Department of Commerce (DOC), announces the appointment of those individuals who have been selected to serve as members of the EDA Performance Review Board. The EDA Performance Review Board is responsible for (1) Reviewing performance appraisals and ratings of Senior Executive Service (SES) members and (2) making recommendations to the appointing authority on other performance management issues, such as pay adjustments, bonuses and Presidential Rank Awards for SES members. The appointment of these members to the EDA Performance Review Board will be for a period of twelve (12) months.

DATES: The period of appointment for those individuals selected for the EDA Performance Review Board begins on October 13, 2006.

FOR FURTHER INFORMATION CONTACT: Sandra R. Walters, Economic Development Administration, Office of Management Services, Department of Commerce, Room 7217, 1401 Constitution Avenue, NW., Washington, DC 20230; telephone: 202-482-5892.

SUPPLEMENTARY INFORMATION: In accordance with 5 U.S.C. 4314(c)(4), the Economic Development Administration (EDA), Department of Commerce (DOC), announces the appointment of those individuals who have been selected to serve as members of the EDA Performance Review Board. The EDA Performance Review Board is responsible for (1) Reviewing performance appraisals and ratings of Senior Executive Service (SES) members and (2) making recommendations to the appointing authority on other performance management issues, such as pay adjustments, bonuses and Presidential Rank Awards for SES members. The appointment of these members to the EDA Performance Review Board will be for a period of twelve (12) months beginning on October 13, 2006. The name, position title, and type of appointment of each member of the EDA Performance Review Board are set forth below by organization:

Office of the Secretary

William J. Fleming, Deputy Director, Office of Human Resources (Chairperson)

Aimee Strudwick, Chief of Staff to the Deputy Secretary

Barbara Retzlaff, Director, Office of Budget

Lisa Casias, Deputy CFO and Director for Financial Management

National Telecommunications and Information Administration

John Kneuer, Deputy Assistant Secretary of Commerce for Communications and Information

Dated: October 6, 2006.
Sandra R. Walters,
Deputy Chief Financial Officer and Director, Administrative and Support, Services Division.

[FR Doc. E6-17050 Filed 10-12-06; 8:45 am]

BILLING CODE 3510-24-P